DEPARTMENT OF TRANSPORTATION

Federal Aviation Administration

14 CFR Part 71

[Docket No. FAA-2019-0815; Airspace Docket No. 19-ASW-8]

RIN 2120-AA66

Revocation, Amendment, and Establishment of Multiple Air Traffic Service (ATS) Routes Due to the Decommissioning of the Greene County, MS, VOR

AGENCY: Federal Aviation Administration (FAA), DOT.

ACTION: Final rule, delay of effective date.

SUMMARY: This action changes the effective date of a final rule published in the Federal Register on August 20, 2020, removing Jet Route J-590, amending VHF Omnidirectional Range (VOR) Federal airways V-11 and V-70, and establishing area navigation (RNAV) routes T-362 and T-365 due to the planned decommissioning of the VOR portion of the Greene County, MS (GCV), VOR/Tactical Air Navigation (VORTAC) navigation aid (NAVAID). The FAA is delaying the effective date to coincide with the slipped decommissioning date of the Greene County VOR to June 17, 2021, and the anticipated completion of flight inspection activities associated with related VOR Minimum Operational Network (MON) Program projects necessary to adopt the rule amendments.

DATES: The effective date of the final rule published on August 20, 2020 (85 FR 51329) is delayed until June 17, 2021. The Director of the Federal Register approved this incorporation by reference action under Title 1 Code of Federal Regulations part 51, subject to the annual revision of FAA Order 7400.11 and publication of conforming amendments.

FOR FURTHER INFORMATION CONTACT: Colby Abbott, Rules and Regulations Group, Office of Policy, Federal Aviation Administration, 800 Independence Avenue SW, Washington, DC 20591; telephone: (202) 267-8783.

SUPPLEMENTARY INFORMATION:

Background

The FAA published a final rule in the Federal Register for Docket No. FAA-2019-0815 (85 FR 51329, August 20, 2020), removing Jet Route J-590, amending VOR Federal airways V-11 and V-70, and establishing RNAV routes T-362 and T-365 due to the planned decommissioning of the VOR portion of the Greene County, MS, VORTAC NAVAID. The effective date for that final rule is November 5, 2020. Subsequent to the final rule, the required flight inspection activities for related VOR MON projects supporting the Greene County VOR decommissioning were not able to be accomplished in time due to NAVAID outages associated with the related VOR MON projects. The FAA anticipates the NAVAID outages will be resolved and the required flight inspection activities accomplished by June 17, 2021.

To facilitate the safe and continuous use of existing air traffic procedures, and in anticipation the NAVAID outages will be resolved and the required flight inspection activities for the related VOR MON projects accomplished, the planned decommissioning date for the Greene County, MS, VOR has been slipped to June 17, 2021. Therefore, the rule removing J-590, amending V-11 and V-70, and establishing T-362 and T-365 is delayed to coincide with that date.

Jet routes are published in paragraph 2004, VOR Federal airways are published in paragraph 6010(a), and RNAV T-routes are published in paragraph 6011 of FAA Order 7400.11E dated July 21, 2020, and effective September 15, 2020, which is incorporated by reference in 14 CFR 71.1. The ATS routes listed in this document will be subsequently published in the Order.

FAA Order 7400.11, Airspace Designations and Reporting Points, is published yearly and effective on September 15.

Good Cause for No Notice and Comment

Section 553(b)(3)(B) of Title 5, United States Code, (the Administrative Procedure Act) authorizes agencies to dispense with notice and comment procedures for rules when the agency for “good cause” finds that those procedures are “impracticable, unnecessary, or contrary to the public interest.” Under this section, an agency, upon finding good cause, may issue a final rule without seeking comment prior to the rulemaking. The FAA finds that prior notice and public comment to this final rule is unnecessary due to the brief length of the extension of the effective date and the fact that there is no substantive change to the rule.”

Delay of Effective Date

Accordingly, pursuant to the authority delegated to me, the effective date of the final rule, Airspace Docket 19-ASW-8, as published in the Federal Register on August 20, 2020 (85 FR 51329), FR Doc. 2020-18253, is hereby delayed until June 17, 2021.

Authority: 49 U.S.C. 106(f), 106(g); 40103, 40113, 40120; E.O. 10854, 24 FR 9565, 3 CFR, 1959-1963 Comp., P. 389.

Issued in Washington, DC, on October 6, 2020.
Scott M. Rosenbloom,
Acting Manager, Rules and Regulations Group.

[FR Doc. 2020-22426 Filed 10-9-20; 8:45 am]

BILLING CODE 4910-13-P